DEPARTMENT OF ENERGY

Request for Information—Foundation for Energy Security and Innovation (FESI)

AGENCY: Office of Technology Transitions, Department of Energy.

ACTION: Request for information (RFI).

SUMMARY: The U.S. Department of Energy (DOE) publishes the following questions regarding potential engagement with the Foundation for Energy Security and Innovation (FESI), directed to be established under the CHIPS and Science Act. The purpose of this RFI is to seek input on how DOE stakeholders may engage with the FESI directly, and how DOE may engage with the FESI and the communities it will serve. Interested parties are requested to answer some or all of the questions at their discretion.

DATES: Responses to the RFI must be received no later than 5 p.m. (ET) on March 27, 2023.

ADDRESSES: Interested parties are to submit comments electronically to FESI.RFI@hq.doe.gov with the subject line “FESI RFI Response” no later than March 27, 2023. All responses must be submitted as a Microsoft Word document (.doc/.docx) of no more than 5 pages in length, with black, Times New Roman, 12 point font, and 1 inch margins as an attachment to an email. The document cannot exceed 2MB in size. Only electronic responses to the above email address will be accepted. DOE will not consider responses submitted by any other means.

Note: If clicking on the above link gives you an error message, you must CUT AND PASTE the URL into your browser to reach the web page.

FOR FURTHER INFORMATION CONTACT: Mary Yamada, (240) 888-4568, Mary.Yamada@hq.doe.gov.

SUPPLEMENTARY INFORMATION: DOE is renowned for its research prowess, technology expertise, and ability to leverage American ingenuity to invent early-stage clean energy technologies. To help meet the Administration's climate, jobs, and economic goals, it is imperative that our early-stage technologies are successfully guided through to demonstration and deployment. Only then will DOE-invested technologies activate their fullest potential to help combat the global climate crisis. The Office of Technology Transitions (OTT) works to develop policies, share lessons learned, and improve the Department's ability to commercialize. At the highest level, commercialization is the process of taking an idea and bringing it to market—or progression across the research, development, demonstration, and deployment (RDD&D) continuum to obtain market viability. The RDD&D continuum provides a useful framework for mapping the stages of a technology's progression to commercialization—starting with research into an innovative idea and ending with commercial scale deployment.

The commercialization pathway for clean technologies is nonlinear and often fails because of inadequate support infrastructure including capital, tooling, as well as market, manufacturing, and industry expertise—not because of the technology's fundamentals. Commercialization support infrastructure on a national, regional, and local scale are essential to ensuring economics are addressed and critical ecosystem players are onboard. The economic and business model requirements for deployment, as well as a technology's societal considerations, can and should shape the technical problem definition and design of solutions at all stages of the RDD&D continuum. OTT is charged with thinking through this problem set and working collaboratively across DOE to maximize our commercialization outcomes. Given the importance and complexity of OTT's commercialization mandate, it is essential the DOE explore and leverage all authorities granted to the Agency. This includes a new DOE opportunity in the CHIPS and Science Act of 2022—the Foundation for Energy Security and Innovation (FESI).

There has been much interest in the establishment of this new foundation, and DOE has received inquiries regarding future activities with FESI. In order to obtain a wide array of perspectives from stakeholders, DOE, through this RFI, is seeking input on how it might engage with the FESI and the communities it will serve.

The FESI is to be established as an independent non-profit entity by the DOE pursuant to authorization in the CHIPS and Science Act of 2022 (section 10691) (Pub. L. 117-167), signed into law by President Biden on August 9, 2022. The mission of FESI is two-fold: (1) to support the mission of the Department of Energy generally; and more specifically, (2) to increase private and philanthropic sector investments to accelerate the commercialization of energy technologies. The statute provides FESI with broad authority to carry out its mission.

To accomplish this mission, Congress authorized the FESI to engage with the private sector to raise funds that support efforts to “create, characterize, develop, test, validate, and deploy or commercialize innovative technologies that address crosscutting national energy challenges”.¹

¹ Section 10691, CHIPS and Science Act of 2022 (Pub. L. 117-167).

To facilitate establishment of FESI so it may begin achieving its mission, Congress has mandated that DOE appoint and convene a Board of Directors to include statutorily required ex officio non-voting members from DOE, as well as appointed voting members. The CHIPS and Science Act of 2022 identified the DOE ex officio members of the Board as the Secretary of Energy, the Under Secretary for Science, the Under Secretary for Nuclear Security, and the DOE Chief Commercialization Officer.

To assist with identifying potential initial voting members of the Board, Congress mandated DOE consult with the National Academies of Sciences, Engineering, and Medicine to develop a list of well-qualified individuals that represent a diverse set of stakeholders.

Following appointment of the initial Board of Directors and establishment of FESI, the Department of Energy's Secretary will also appoint liaisons from across DOE, including from the Office of Technology Transitions (OTT) and the Undersecretaries for and Infrastructure, among others, to collaborate and coordinate with the Foundation. As specified in the CHIPS and Science Act of 2022, collaboration and coordination with OTT and other relevant DOE offices is essential to ensure that the FESI supports the DOE mission without duplicating existing commercialization and other activities and programs carried out by the DOE.

Questions seeking input on potential objectives and activities for DOE engagement with the FESI:

To help identify and prioritize opportunities for DOE to engage and partner with the FESI, DOE is seeking information from potential stakeholder groups including, but not limited to:

• Philanthropic and non-profit organizations.

• Community stakeholders.

• DOE's National Laboratory foundations.

• Potential investors in companies developing technologies aligned with the DOE mission.

• Industry stakeholders, especially those representing diverse regions, sectors, and communities.

• Other potential stakeholders or collaborators of FESI.

1. Which aspects of the DOE mission ² and energy technology commercialization ³ can you identify as potentially benefitting from FESI's involvement?

² DOE's mission statement can be found at the following link: https://www.energy.gov/mission.

³ See commercialization description.

2. Once the FESI is established, what mission areas would you recommend DOE prioritize working on with the FESI?

3. In what ways would you recommend DOE seek support of the FESI to carry out the mission areas identified?

4. To assist DOE in understanding and potentially better aligning with stakeholder interest, in what ways would you recommend DOE engage with organizations to determine what they seek to accomplish?

5. How would you envision DOE engage with the FESI to:

a. Better support communities wishing to participate in the energy transition?

b. Better support industry and small businesses wishing to participate in the energy transition?

c. Drive long-term climate and clean energy strategy?

d. Broaden participation in energy technology development among individuals from historically underrepresented groups or regions?

e. Support the commercialization of energy technologies?

f. Support workforce development?

g. Foster collaboration and partnerships with researchers from the Federal Government, State governments, institutions of higher education, including historically Black colleges or universities, Tribal Colleges or Universities, and minority-serving institutions, federally funded research and development centers (FFRDCs), industry, and nonprofit organizations for the research, development, demonstration and deployment of transformative energy and associated technologies?

6. What potential challenges should DOE be aware of to proactively manage given the intent to establish the FESI?

7. What other ways could the establishment of FESI support the DOE missions? How could DOE engage effectively with the FESI on these activities?

Confidential Business Information. Pursuant to 10 CFR 1004.11, any person submitting information that he or she believes to be confidential and exempt by law from public disclosure should submit via email two well-marked copies: one copy of the document marked “confidential” including all the information believed to be confidential, and one copy of the document marked “non-confidential” with the information believed to be confidential deleted. Submit these documents via email. DOE will make its own determination about the confidential status of the information and treat it according to its determination.

Signing Authority

This document of the Department of Energy was signed on February 9, 2023, by Vanessa Chan, Chief Commercialization Officer and Director, Office of Technology Transitions, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 10, 2023.
Treena V. Garrett,
Federal Register Liaison Officer, U.S. Department of Energy.

[FR Doc. 2023-03199 Filed 2-14-23; 8:45 am]

BILLING CODE 6450-01-P